DEPARTMENT OF THE TREASURY

United States Mint

Extension of Submission Period for CCCAC Membership Applications

SUMMARY: This notice extends to May 31, 2002, the previous deadline of May 16, 2002, to submit applications for membership to the Citizens Commemorative Coin Advisory Committee (CCCAC). The CCCAC was established in 1993 under Public Law 102-390 to:

• Designate annually the events, persons, or places the committee recommends be commemorated by the issuance of commemorative coins,

• Make recommendations with respect to the mintage level for any commemorative coin recommended,

• Submit a report to the Congress containing a description of the recommendations and the Committee's reasons for such recommendation, and

• Review and comment on proposed designs for commemorative coins and the 50 State Quarters® Program.

Membership consists of seven voting members appointed to 4-year terms by the Secretary of the Treasury:

• Three members shall be appointed from among individuals specially qualified to serve by reason of their education, training or experience in art, art history, museum or numismatic collection curation, or numismatics,

• Three members shall be appointed from among individuals who will represent the interest of the general public, and

• One member shall be appointed from officers or employees of the United States Mint to represent the interests of the United States Mint.

The Committee is subject to the direction of the Secretary of the Treasury. The United States Mint is responsible for providing the necessary support services for the Committee. Committee members are not paid for their time or services, but, consistent with Federal Travel Regulations, members are reimbursed for their travel and lodging expenses to attend approximately two meetings each year. Members may be subject to the Standards of Ethical Conduct for Employees of the Executive Branch (5 CFR part 2653).

The United States Mint will review all submissions and will forward its recommendations to the Secretary of the Treasury for appointment consideration. Candidates who believe that they are specially qualified to serve by reason of their education, training, or experience in the fields of art, art history, museum or numismatic collection curation, or numismatics should include specific skills, abilities, talents, and credentials to support their applications. All candidates should submit any relevant information that demonstrates their qualifications to represent the interests of the public, including demonstrated experience with history, education, youth or American heritage and culture. The United States Mint is also interested in candidates who have demonstrated leadership skills, who have received recognition by their peers in their field of interest, who have a record of participation in public service or activities, and who are willing to commit the time and effort to participate in the Committee meetings and related activities.

Application Deadline: May 31, 2002.

Receipt of Applications: Any member of the public wishing to be considered for participation on the committee should submit a resume, or letter describing qualifications for membership, by e-mail to cccacmembership@usmint.treas.gov or by mail to the United States Mint, 801 9th Street, NW., Washington, DC 20001, Attn: CCCAC Membership. Submissions must be postmarked no later than May 31, 2002.

Dated: May 13, 2002.
Henrietta Holsman Fore,
Director, United States Mint.

[FR Doc. 02-12306 Filed 5-15-02; 8:45 am]

BILLING CODE 4810-37-P